DEPARTMENT OF LABOR

Employment and Training Administration

[TA-W-38,824]

Heritage Sportswear Marion, South Carolina; Notice of Termination of Investigation

Pursuant to Section 221 of the Trade Act of 1974, an investigation was initiated on March 12, 2001, in response to a worker petition which was filed on behalf of workers at Heritage Sports-wear, Marion, South Carolina.

The petitioners were separated from the subject firm more than a year prior to the postmark date of the petition February 24, 2001. Section 223(b)(1) of the Trade Act of 1974 specifies that no certification may apply to any worker whose last separation occurred more than a year before the date of the petition. Consequently, further investigation in this case would serve no purpose, and the investigation has been terminated.

Signed at Washington, DC this 12th day of April 2001.
Linda G. Poole,
Certifying Officer, Division of Trade Adjustment Assistance.

[FR Doc. 01-10947 Filed 5-1-01; 8:45 am]

BILLING CODE 4510-30-M